DEPARTMENT OF AGRICULTURE

Forest Service

36 CFR Part 251

Special Uses

AGENCY: Forest Service, USDA.

ACTION: Correcting amendment.

SUMMARY: This document contains corrections to the final rule governing the Forest Service's Special Use Program that was published in the Federal Register on March 26, 2010 (75 FR 14495).

DATES: Effective on May 6, 2010.

FOR FURTHER INFORMATION CONTACT: Julett Denton, Lands Special Uses Program Manager, (202) 205-1256.

SUPPLEMENTARY INFORMATION:

This correction adds paragraphs (A), (B), (C), and (D) to § 251.60 (a)(2)(i) which were inadvertently removed from the final rule and which are necessary to reflect properly the Forest Service's authority to revoke or suspend special use authorizations under the Federal Land Policy and Management Act.

List of Subjects in 36 CFR Part 251

Administrative practice and procedure, Electric power, National forests, Public lands--rights-of-way, Reporting and recordkeeping requirements, Water resources.

Accordingly, 36 CFR part 251 is corrected to read as follows:

PART 251—LAND USES

Subpart B—Special Uses

1. The authority citation for part 251 continues to read as follow:

Authority: 7 U.S.C. 1011; 16 U.S.C. 518, 551, 678a; Pub. L. 76-867, 54 Stat. 1197.

2. In § 251.60, revise (a)(2)(i) to read as follows:

§ 251.60 Termination, revocation, and suspension.

(a) * * *

(2) All other special uses—(i) Revocation or suspension. An authorized officer may revoke or suspend a special use authorization for all other special uses, except a permit or an easement issued pursuant to § 251.53(e) or an easement issued under § 251.53(l) of this subpart:

(A) For noncompliance with applicable statutes, regulations, or the terms and conditions of the authorization;

(B) For failure of the holder to exercise the rights or privileges granted;

(C) With the consent of the holder; or

(D) At the discretion of the authorized officer for specific and compelling reasons in the public interest.

* * * * *

Dated: April 28, 2010.
Thomas L. Tidwell,
Chief, Forest Service.

[FR Doc. 2010-10296 Filed 5-5-10; 8:45 am]

BILLING CODE 3410-11-P